DEPARTMENT OF AGRICULTURE

Risk Management Agency

Notice for Extension and Revision of a Currently Approved Information Collection

AGENCY: Risk Management Agency, USDA.

ACTION: Notice and request for comments.

SUMMARY: In accordance with the Paperwork Reduction Act of 1995, this notice announces the intention of the Risk Management Agency (RMA) to request an extension and revision to a currently approved information collection.

DATES: Written comments on this notice will be accepted until close of business August 2, 2010.

ADDRESSES: Interested persons are invited to submit comments by any of the following methods:

• By Mail to: Sundii Johnson Phillips, Risk Management Education Division, USDA/RMA, 1400 Independence Avenue, SW., Stop 0808, Room 5720, Washington, DC 20250-0808.

• E-Mail: RMA.Risk-Ed@rma.usda.gov.

All comments will be available for public inspection during regular business hours at the same address. All responses to this notice will be summarized and included in the request for OMB approval. All comments will also become a matter of public record.

FOR FURTHER INFORMATION CONTACT: To request additional information on the proposed collection of information contact: Sundii Johnson Phillips, Risk Management Education Division USDA/RMA, Stop 0808, 1400 Independence Ave., SW., Washington, DC 20250-0808, or call (202) 720-5265.

SUPPLEMENTARY INFORMATION:

Title: Risk Management and Crop Insurance Education Activity Log.

OMB Number: 0563-0070.

Expiration Date of Approval: November 30, 2010.

Type of Request: Extension and revision of a currently approved information collection.

Abstract: The Federal Crop Insurance Act directs the Federal Crop Insurance Corporation, operating through RMA, to (a) establish crop insurance education and information programs in States that have been historically underserved by the Federal crop insurance program [7 U.S.C. 1524(a)(2)]; and (b) provide agricultural producers with training opportunities in risk management, with a priority given to producers of specialty crops and underserved commodities [7 U.S.C. 1522(d)(3)(F)]. With this submission, RMA seeks to obtain approval for Risk Management and Crop Insurance Education Activity Log—Form RME-300, in order to collect information and monitor certain educational activities. Agreement holders are required to record specific information about each educational activity conducted under the agreement in an activity log and submit the form to RMA as part of the required quarterly progress report. In addition, RMA will use the information provided by agreement holders to ensure that funded educational projects are progressing.

We are asking the Office of Management and Budget (OMB) to approve this information collection activity for 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average: 30 minutes per response for agreement holders for a total of 360 hours.

Respondents/Affected Entities: Not-for-profit institutions; Business or other for-profit; State, local, or tribal government.

Estimated annual number of respondents: 180 respondents.

Estimated annual number of responses: 720 responses or 4 per respondent.

Estimated total annual burden on respondents: 360 hours.

Signed in Washington, DC, on May 27, 2010.
William J. Murphy,
Manager, Federal Crop Insurance Corporation.

[FR Doc. 2010-13254 Filed 6-1-10; 8:45 am]

BILLING CODE 3410-08-P